DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's (RHS) intention to request an extension for a currently approved information collection in support of the program for 7 CFR part 3575, subpart A, “Community Programs Guaranteed Loans.”

DATES: Comments on this notice must be received by December 18, 2009 to be assured of consideration.

FOR FURTHER INFORMATION CONTACT: Kendra Doedderlein, Senior Loan Specialist, RHS, STOP 0787, 1400 Independence Avenue, SW., Washington, DC 20250-0788, telephone (202) 720-1503, or by e-mail at kendra.doedderlein@wdc.usda.gov.

SUPPLEMENTARY INFORMATION: Title: 7 CFR 3575, subpart A, “Community Programs Guaranteed Loans.”

OMB Number: 0575-0137.

Expiration Date of Approval: February 28, 2010.

Type of Request: Extension of a currently approved information collection and recordkeeping requirements.

Abstract: Private lenders make the loans to public bodies and nonprofit corporations for the purposes of improving rural living standards and for other purposes that create employment opportunities in rural areas. Eligibility for this program includes community facilities located in cities, towns, or unincorporated areas with a population of up to 20,000 inhabitants.

The information collected is used by the agency to manage, plan, evaluate, an account for government resources. The reports are required to ensure the proper and judicious use of public funds.

Estimate of Burden: Public reporting burden for this collection of information is estimated to average 1 hour per response.

Respondents: Nonprofit corporations and public bodies.

Estimated Number of Respondents: 37,965.

Estimated Number of Responses per Respondent: 1.

Estimated Number of Responses: 39,796.

Estimated Total Annual Burden on Respondents: 48,873 hours.

Copies of this information collection can be obtained from Linda Watts Thomas, Regulations and Paperwork Management Branch, Support Services Division at (202) 692-0226.

Comments

Comments are invited on: (a) Whether the proposed collection of information is necessary for the proper performance of the functions of RHS, including whether the information will have practical utility; (b) the accuracy of RHS's estimate of the burden of the proposed collection of information including the validity of the methodology and assumptions used; (c) ways to enhance the quality, utility and clarity of the information to be collected; and (d) ways to minimize the burden of the collection of information on those who are to respond, including the use of appropriate automated, electronic, mechanical, or other technological collection techniques or other forms of information technology. Comments may be sent to Linda Watts Thomas, Regulations and Paperwork Management Branch, Support Services Division, U.S. Department of Agriculture, Rural Development, STOP 0742, 1400 Independence Ave., SW., Washington, DC 20250-0742. All responses to this notice will be summarized and included in the request for OMB approval. All comments will also become a matter of public record.

Dated: October 14, 2009.
Tammye Treviño,
Administrator, Rural Housing Service.

[FR Doc. E9-25103 Filed 10-16-09; 8:45 am]

BILLING CODE 3410-XV-P